FEDERAL COMMUNICATIONS COMMISSION

[MB Docket No. 11-43; DA 15-18]

National Nonbroadcast Network Rankings for Purposes of July 1, 2015 Update to Video Description Requirements

AGENCY: Federal Communications Commission.

ACTION: Notice.

SUMMARY: In this document, the Media Bureau (Bureau) announces the top national nonbroadcast networks for the 2013 to 2014 ratings year according to data provided by the Nielsen Company for purposes of the July 1, 2015 update to the video description requirements. The Bureau provides filing instructions for any program network that believes it should be excluded from the list of top five networks covered by the video description requirements based on an applicable exemption.

DATES: Petitions for exemption may be filed on or before March 5, 2015.

ADDRESSES: Filings should be submitted electronically in MB Docket No. 11-43 by accessing the Commission's Electronic Comment Filing System (ECFS): http://www.fcc.gov/cgb/ecfs/. Filers should follow the instructions provided on the Web site for submitting filings.

• People with Disabilities: Contact the FCC to request reasonable accommodations (accessible format documents, sign language interpreters, CART, etc.) by email: FCC504@fcc.gov or phone: (202) 418-0530 or TTY: (202) 418-0432.

FOR FURTHER INFORMATION CONTACT: Maria Mullarkey, Maria.Mullarkey@fcc.gov, of the Policy Division, Media Bureau, (202) 418-2120.

SUPPLEMENTARY INFORMATION: This is a summary of the Commission's Public Notice in MB Docket No. 11-43, DA 15-18, released on January 7, 2015. The full text of this document is available for public inspection and copying during regular business hours in the FCC Reference Center, Federal Communications Commission, 445 12th Street SW., Room CY-A257, Washington, DC 20554. This document will also be available via ECFS at http://fjallfoss.fcc.gov/ecfs/. Documents will be available electronically in ASCII, Microsoft Word, and/or Adobe Acrobat. The complete text may be purchased from the Commission's copy contractor, 445 12th Street SW., Room CY-B402, Washington, DC 20554. Alternative formats are available for people with disabilities (Braille, large print, electronic files, audio format), by sending an email to fcc504@fcc.gov or calling the Commission's Consumer and Governmental Affairs Bureau at (202) 418-0530 (voice), (202) 418-0432 (TTY).

Summary

The Commission's video description rules require multichannel video programming distributor (“MVPD”) systems that serve 50,000 or more subscribers to provide 50 hours of video description per calendar quarter during prime time or children's programming on each of the top five national nonbroadcast networks.¹ The top five national nonbroadcast networks are defined by an average of the national audience share during prime time of nonbroadcast networks that reach 50 percent or more of MVPD households and have at least 50 hours per quarter of prime time programming that is not live or near-live or otherwise exempt under the video description rules.² The nonbroadcast networks currently subject to the video description requirements are USA, the Disney Channel, TNT, Nickelodeon, and TBS.³

¹ 47 CFR 79.3(b)(4). Video description makes video programming accessible to individuals who are blind or visually impaired through “[t]he insertion of audio narrated descriptions of a television program's key visual elements into natural pauses between the program's dialogue.” Id. 79.3(a)(3).

² Id. 79.3(b)(4). “Live or near-live programming” is defined as programming performed either simultaneously with, or recorded no more than 24 hours prior to, its first transmission by a video programming distributor. Id. 79.3(a)(7).

³ Video Description: Implementation of the Twenty-First Century Communications and Video Accessibility Act of 2010, Report and Order, 26 FCC Rcd 11847, 11854, para. 12 (2011) (“2011 Video Description Order”).

In accordance with the Commission's rules, the list of top five nonbroadcast networks will update at three year intervals to account for changes in ratings, and the first update will occur on July 1, 2015, based on the 2013 to 2014 ratings year.⁴ According to data provided by the Nielsen Company, the top ten nonbroadcast networks for the 2013 to 2014 ratings year are: USA Network, ESPN, Turner Network Television, TBS Network, History, Disney Channel, Fox News Channel, Nickelodeon, A&E Network, and FX.⁵

⁴ 47 CFR 79.3(b)(4); 2011 Video Description Order, 26 FCC Rcd at 11857, para. 18.

⁵ In determining the top five nonbroadcast networks subject to the rules in 2011, the Commission relied on Nielsen's “live +7 day” ratings, which include incremental viewing that takes place during the seven days following a telecast. Consistent with this approach, we rely on Nielsen's “live + 7 day” ratings. The data covers the 2013 to 2014 cable ratings year (September 30, 2013 to September 28, 2014).

If a program network believes it should be excluded from the list of top five networks covered by the video description requirements because it does not air at least 50 hours of prime time programming that is not live or near-live or is otherwise exempt, it must seek an exemption no later than 30 days after publication of this Public Notice.⁶ Filings should be submitted electronically in MB Docket No. 11-43 by accessing the Commission's Electronic Comment Filing System (ECFS): http://www.fcc.gov/cgb/ecfs/. Filers should follow the instructions provided on the Web site for submitting filings. The Media Bureau will promptly evaluate requests for exemption and will provide notice of any resulting revisions to the list.

⁶ See 2011 Video Description Order, 26 FCC Rcd at 11857, para. 18. In the 2011 Video Description Order, the Commission stated that “[t]o the extent a program network that otherwise would appear in the list of top five nonbroadcast networks does not air at least 50 hours of prime time programming that is not exempt, it must seek an exemption from the video description requirement no later than 30 days after publication of the 2013-2014 ratings information by The Nielsen Company,” noting that “[t]his requirement will ensure that the nonbroadcast network replacing it in the top five has ample time to come into compliance.” Id. Although the Order indicates that networks must file for exemption 30 days after publication of the ratings information, we will allow parties to file for exemption 30 days after publication of this Public Notice to ensure that all parties are evaluating the same ratings data and have the full time period to evaluate this data and submit a request for exemption, if necessary.

Federal Communications Commission.
William T. Lake,
Chief, Media Bureau.

[FR Doc. 2015-02079 Filed 2-2-15; 8:45 am]

BILLING CODE 6712-01-P